DEPARTMENT OF THE INTERIOR

National Park Service

[NPS-WASO-NAGPRA-20979; PPWOCRADN0-PCU00RP14.R50000]

Notice of Inventory Completion for Native American Human Remains and Associated Funerary Objects in the Possession of the U.S. Department of Defense, Department of the Army, Fort Benning, GA; Correction

AGENCY: National Park Service, Interior.

ACTION: Notice; correction.

SUMMARY: The U.S. Department of Defense, Department of the Army, Fort Benning, GA has corrected an inventory of human remains and associated funerary objects, published in two Notices of Inventory Completion in the Federal Register on August 29, 2002, and August 31, 2015. This notice corrects the minimum number of individuals and the number of associated funerary objects. Lineal descendants or representatives of any Indian tribe or Native Hawaiian organization not identified in this notice that wish to request transfer of control of these human remains and associated funerary objects should submit a written request U.S. Army, Fort Benning, GA. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the U.S. Army, Fort Benning, GA at the address in this notice by June 10, 2016.

ADDRESSES: Dr. Christopher E. Hamilton, Coordinator for Native American Affairs, 6500 Meloy Drive, Room 309, Fort Benning, GA 31905, telephone (706) 545-4211, email Christopher.e.hamilton.civ@mail.mil.

SUPPLEMENTARY INFORMATION: Notice is here given in accordance with the Native American Graves Protection and Repatriation Act (NAGPRA), 25 U.S.C. 3003, of the correction of an inventory of human remains and associated funerary objects under the control of the U.S. Army, Fort Benning, GA. The human remains and associated funerary objects were removed from Russell County, AL.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of individuals published in a Notice of Inventory Completion in the Federal Register (67 FR 55426-55428, August 29, 2002) and the number of associated funerary objects published in Notice in the Federal Register (80 FR 52491-52492, August 31, 2015). In November of 2015 a routine evaluation of NAGPRA items uncovered human remains and associated funerary objects that were not previously listed on the original notice published in 2002 or on the correction published in 2015. Transfer of control of the items in this correction notice has not occurred.

Correction

In the Federal Register (67 FR 55427, August 29, 2002), column 2, paragraph 1, sentence 1, is corrected by substituting the number 13, with the number 14.

In the Federal Register (67 FR 55427, August 29, 2002), column 3, paragraph 2, sentence 1, is corrected by substituting the number 25, with the number 26.

In the Federal Register (80 FR 52491, August 31, 2015), column 3, paragraph 2, under the heading “Correction,” is corrected by adding the following sentences at the end of the paragraph:

In November 2015, additional associated funerary objects, not listed on previous notices, were found during a routine evaluation of collections. The additional associated funerary objects are 3 ceramic fragments, 91 worked shell pieces, 8 unmodified shell pieces, and 55 glass beads.

In the Federal Register (80 FR 52491, August 31, 2015), column 3, paragraph 3, sentence 1, under the heading “Correction,” is corrected by replacing the number 1560 with the number 1717.

Additional Requestors and Disposition

Lineal descendants or representatives of any Indian tribe or Native Hawaiian organization not identified in this notice that wish to request transfer of control of these human remains and associated funerary objects should submit a written request with information in support of the request to Dr. Christopher E. Hamilton, Coordinator for Native American Affairs, 6500 Meloy Drive, Room 309, Fort Benning, GA 31905, telephone (706) 545-4211, email Christopher.e.hamilton.civ@mail.mil, by June 10, 2016. After that date, if no additional requestors have come forward, transfer of control of the human remains and associated funerary objects to Alabama-Coushatta Tribes of Texas; the Alabama-Quassarte Tribal Town, Oklahoma; the Chickasaw Nation; the Coushatta Tribe of Louisiana; the Kialegee Tribal Town, Oklahoma; the Miccosukee Tribe of Indians of Florida; the Muscogee (Creek) Nation, Oklahoma; the Poarch Band of Creek Indians of Alabama; the Seminole Nation of Oklahoma; the Seminole Tribe of Florida; and the Thlopthlocco Tribal Town, Oklahoma may proceed.

The U.S. Department of Defense, Department of the Army, Fort Benning, GA, is responsible for notifying the Alabama-Coushatta Tribes of Texas; the Alabama-Quassarte Tribal Town, Oklahoma; the Chickasaw Nation; the Coushatta Tribe of Louisiana; the Kialegee Tribal Town, Oklahoma; the Miccosukee Tribe of Indians of Florida; the Muscogee (Creek) Nation, Oklahoma; the Poarch Band of Creek Indians of Alabama; the Seminole Nation of Oklahoma; the Seminole Tribe of Florida; and the Thlopthlocco Tribal Town, Oklahoma that this notice has been published.

Dated: April 28, 2016.
Melanie O'Brien,
Manager, National NAGPRA Program.

[FR Doc. 2016-11087 Filed 5-10-16; 8:45 am]

BILLING CODE 4312-50-P